SECURITIES AND EXCHANGE COMMISSION

Agency Meeting

Federal Register Citation of Previous Announcement: [66 FR 46301, September 4, 2001]

Status: Closed meeting.

Place: 450 Fifth Street, NW., Washington, DC.

Date Previously Announced: August 30, 2001.

Change in the Meeting: Deletion.

The following item was not considered at the closed meeting scheduled for Wednesday, September 5, 2001: consideration of actions involving foreign governmental authorities.

At times, change in Commission priorities require alterations in the scheduling of meeting items. For further information and to ascertain what, if any, matters have been added, deleted or postponed, please contact:

The Office of the Secretary at (202) 942-7070.

Dated: September 6, 2001.
Jonathan G. Katz,
Secretary.

[FR Doc. 01-22708 Filed 9-6-01; 11:29 am]

BILLING CODE 8010-01-M